DEPARTMENT OF DEFENSE

Department of the Army; Corps of Engineers

Intent To Prepare a Draft Environmental Impact Statement (EIS) for the Installation of a Terminal Groin Structure at Shallotte River Inlet and To Conduct Supplemental Beach Nourishment Along the Eastern Oceanfront Shoreline of Ocean Isle Beach, in Brunswick County, NC

AGENCY: Department of the Army, U.S. Army Corps of Engineers, DoD.

ACTION: Notice of intent.

SUMMARY: The U.S. Army Corps of Engineers (USACE), Wilmington District, Wilmington Regulatory Field Office has received a request for Department of the Army authorization, pursuant to Section 404 of the Clean Water Act and Section 10 of the Rivers and Harbor Act, from the Town of Ocean Isle Beach to develop and implement a shoreline protection plan that includes the installation of a terminal groin structure on the west side of Shallotte Inlet (not a federally maintained navigational channel) and the nourishment of the oceanfront shoreline along the eastern end of Ocean Isle Beach.

DATES: A public scoping meeting for the Draft EIS will be held at Ocean Isle Beach Town Hall, located at 3 West Third Street, Ocean Isle Beach, on October 3, 2012, at 6 p.m. Written comments will be received until October 26, 2012.

ADDRESSES: Copies of comments and questions regarding scoping of the Draft EIS may be submitted to: U.S. Army Corps of Engineers, Wilmington District, Regulatory Division, ATTN: File Number 2011-01241, 69 Darlington Avenue, Wilmington, NC 28403.

FOR FURTHER INFORMATION CONTACT: Questions about the proposed action and Draft EIS can be directed to Ms. Emily Hughes, Project Manager, Wilmington Regulatory Field Office, telephone: (910) 251-4635. Additional description of the Town's proposal can be found at the following link, http://www.saw.usace.army.mil/WETLANDS/Projects/index.html, under Ocean Isle Beach Terminal Groin Project.

SUPPLEMENTARY INFORMATION:

1. Project Description. The Town of Ocean Isle Beach is considering the installation of a terminal groin on the east end of the town's shoreline adjacent to Shallotte Inlet to address chronic erosion over the past 20-25 years. Erosion rates on the east end range from 4-8 feet a year based on the latest shoreline change update developed by the NC Division of Coastal Management. The overall length of the terminal groin could range from 800-1,000 feet; however, the final dimensions of the structure could differ following detailed engineering design. The structure would include a short anchorage section that could extend 350-400 feet landward of the existing shoreline. Beach fill, extending 2,000-2,500 feet west of the terminal groin would be placed to pre-fill the fillet area. The volume of material required for the fillet could range from 200,000-400,000 cubic yards. The material for the beach fill would be obtained from the existing federal borrow area in Shallotte Inlet, the AIWW inlet crossing, or a combination of the two. Ocean Isle Beach proposes to apply for non-federal permits for the use of these two areas by developing the information required to comply with the State Sediment Criteria.

2. Issues. There are several potential environmental and public interest issues that will be addressed in the EIS. Additional issues may be identified during the scoping process. Issues initially identified as potentially significant include:

a. Potential impacts to marine biological resources (benthic organisms, passageway for fish and other marine life) and Essential Fish Habitat.

b. Potential impacts to threatened and endangered marine mammals, birds, fish, and plants.

c. Potential impacts associated with using inlets as a sand source.

d. Potential impacts to adjacent shoreline changes on the east side of Shallotte Inlet, or along Holden Beach.

e. Potential impacts to Navigation, commercial and recreational.

f. Potential impacts to the long-term management of the inlet and oceanfront shorelines.

g. Potential effects on regional sand sources and how it relates to sand management practices and North Carolina's Beach Inlet Management Practices.

h. Potential effects of shoreline protection.

i. Potential impacts on public health and safety.

k. Potential impacts to recreational and commercial fishing.

l. The compatibility of the material for nourishment.

m. Potential impacts to cultural resources.

n. Cumulative impacts of past, present, and foreseeable future dredging and nourishment activities.

3. Alternatives. Several alternatives and sand sources are being considered for the development of the protection plan. These alternatives will be further formulated and developed during the scoping process and an appropriate range of alternatives, including the no federal action alternative, will be considered in the EIS.

4. Scoping Process. A public scoping meeting (see DATES) will be held to receive public comment and assess public concerns regarding the appropriate scope and preparation of the Draft EIS. Participation in the public meeting by federal, state, and local agencies and other interested organizations and persons is encouraged.

The USACE will consult with the U.S. Fish and Wildlife Service under the Endangered Species Act and the Fish and Wildlife Coordination Act; with the National Marine Fisheries Service under the Magnuson-Stevens Fishery Conservation and Management Act and the Endangered Species Act; and with the North Carolina State Historic Preservation Office under the National Historic Preservation Act. Additionally, the USACE will coordinate the Draft EIS with the North Carolina Division of Water Quality (NCDWQ) to assess the potential water quality impacts pursuant to Section 401 of the Clean Water Act, and with the North Carolina Division of Coastal Management (NCDCM) to determine the projects consistency with the Coastal Zone Management Act. The USACE will closely work with NCDCM and NCDWQ in the development of the EIS to ensure the process complies with all State Environmental Policy Act (SEPA) requirements. It is the intention of both the USACE and the State of North Carolina to consolidate the NEPA and SEPA processes thereby eliminating duplication.

6. Availability of the Draft EIS. The Draft EIS is expected to be published and circulated by mid 2013. A public hearing will be held after the publication of the Draft EIS.

Dated: September 14, 2012.
Jean B. Gibby,
Acting Chief, Regulatory Division.

[FR Doc. 2012-23300 Filed 9-20-12; 8:45 am]

BILLING CODE 3720-58-P